COMMODITY FUTURES TRADING COMMISSION

17 CFR Chapter I

SECURITIES AND EXCHANGE COMMISSION

17 CFR Chapter II

[Release No. 34-64939; File No. 4-636]

Joint Public Roundtable on International Issues Relating to the Implementation of Title VII of the Dodd-Frank Wall Street Reform and Consumer Protection Act

AGENCIES: Commodity Futures Trading Commission and Securities and Exchange Commission.

ACTION: Notice of roundtable discussion; request for comment.

SUMMARY: On Monday, August 1, 2011, commencing at 9 a.m. and ending at 4 p.m., staff of Commodity Futures Trading Commission (“CFTC”) and Securities and Exchange Commission (“SEC”) (each, an “Agency,” and collectively, the “Agencies”) will hold a public roundtable meeting at which invited participants will discuss various international issues related to the implementation of Title VII of the Dodd-Frank Wall Street Reform and Consumer Protection Act.

DATES: The public roundtable meeting will be held on Monday, August 1, 2011.

ADDRESSES: The roundtable discussion will take place in the Conference Center at the CFTC's headquarters, Three Lafayette Centre, 1155 21st Street, NW., Washington, DC. The discussion will be open to the public with seating made available on a first-come, first-served basis. Members of the public may also listen to the meeting by telephone. Call-in participants should be prepared to provide their first name, last name and affiliation. The information for the conference call is set forth below.

• U.S. toll-free: (866) 844-9416.

• International toll: (203) 369-5026.

• Passcode: 4316057.

A transcript of the public roundtable discussion will be published on the CFTC's Web site at http://www.cftc.gov/PressRoom/Events/2011/index.htm and on the SEC's Web site at http://www.sec.gov/news/press/2011/2011-151.htm.

FOR FURTHER INFORMATION CONTACT: The CFTC's Office of Public Affairs at (202) 418-5080 or the SEC's Office of Public Affairs at (202) 551-4120.

SUPPLEMENTARY INFORMATION: The roundtable discussion will take place on Monday, August 1, 2011, commencing at 9 a.m. and ending at 4 p.m. Members of the public who wish to comment on the topics addressed at the discussion, may do so via:

• Paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• Electronic submission via visiting http://comments.cftc.gov/PublicComments/ReleasesWithComments.aspx and submitting comments through the CFTC's Web site; and/or by e-mail to rule-comments@sec.gov (all e-mails must reference the file number 4-636 in the subject field) or through the comment form available at http://www.sec.gov/news/press/2011/2011-151.htm.

All submissions will be reviewed jointly by the Agencies. All comments must be in English or be accompanied by an English translation. All submissions provided to either Agency in any electronic form or on paper will be published on the Web site of the respective Agency, without review and without removal of personally identifying information. Please submit only information that you wish to make publicly available.

By the Commodity Futures Trading Commission.
Dated: July 21, 2011.
David A. Stawick,
Secretary.
By the Securities and Exchange Commission.
Dated: July 21, 2011.
Elizabeth M. Murphy,
Secretary.

[FR Doc. 2011-18889 Filed 7-25-11; 8:45 am]

BILLING CODE 6351-01-P; 8011-01-P